NUCLEAR REGULATORY COMMISSION

Unistar Nuclear LLC; Notice of Receipt and Availability of Part of an Application for a Combined License

On July 13, 2007 (ML071980294), UniStar Nuclear LLC (UniStar) filed with the Nuclear Regulatory Commission (NRC, the Commission) pursuant to Section 103 of the Atomic Energy Act and 10 CFR Part 52, a portion of an application for a combined license (COL) for a U.S. EPR nuclear power plant at the Calvert Cliffs Nuclear Power Plant facility in Lusby, Maryland identified as Calvert Cliffs Nuclear Power Plant Unit No. 3. UniStar supplemented its filing with a letter dated July 16, 2007 (ML072000363).

An applicant may seek a COL in accordance with Subpart C of 10 CFR Part 52 and may submit such an application in two parts in accordance with 10 CFR 2.101(a)(5). The part submitted by UniStar on July 13 consists of the Environmental Report required by 10 CFR 50.30(f) as well as other information required under 10 CFR 2.101(a)(5). This information includes certain administrative information such as financial qualifications submitted pursuant to 10 CFR 50.33, Chapter 2, “Site Characteristics,” of the safety analysis report (SAR), which is submitted pursuant to 10 CFR 50.34(a)(1), and an agreement to limit access to sensitive information submitted pursuant to 10 CFR 50.37. To support its application, UniStar also requested an exemption from 10 CFR 2.101(a)(5), as documented in its July 13, 2007 letter. The NRC will review this exemption request and render its decision as part of the acceptance review of the application.

Subsequent Federal Register notices will address the acceptability of this part of the tendered COL application for docketing and provisions for participation of the public in the COL review process.

A copy of the application is available for public inspection at the Commission's Public Document Room (PDR), located at One White Flint North, 11555 Rockville Pike (first floor), Rockville, Maryland and via the Agencywide Documents Access and Management System (ADAMS) Public Electronic Reading Room on the Internet at the NRC Web site, http://www.nrc.gov/reading-rm/adams.html. The accession number for the application is ML071980294. Future publicly available documents related to the application will also be posted in ADAMS. Persons who do not have access to ADAMS or who encounter problems in accessing the documents located in ADAMS should contact the NRC Public Document Room staff by telephone at 1-800-397-4209 or 301-415-4737, or by e-mail to pdr@nrc.gov. The application is also available at http://www.nrc.gov/reactors/new-licensing/col.html.

Dated at Rockville, Maryland, this 9th day of August, 2007.
For the Nuclear Regulatory Commission.
Thomas A. Bergman,
Deputy Director, Licensing Operations Division of New Reactor Licensing, Office of New Reactors.

[FR Doc. E7-16068 Filed 8-14-07; 8:45 am]

BILLING CODE 7590-01-P